DEPARTMENT OF COMMERCE

National Oceanic and Atmospheric Administration

[RIN 0648-XD295]

Fisheries of the South Atlantic; Southeast Data, Assessment and Review (SEDAR); Public Meeting

AGENCY: National Marine Fisheries Service (NMFS), National Oceanic and Atmospheric Administration (NOAA), Commerce.

ACTION: Notice of SEDAR Procedural Workshop 7: South Atlantic shrimp data evaluation.

SUMMARY: The SEDAR Procedural Workshop 7 will evaluate the shrimp data in the South Atlantic. See SUPPLEMENTARY INFORMATION.

DATES: The SEDAR Procedural Workshop 7 will be held on July 22, 2014, from 9 a.m. until 6 p.m.; July 23, 2014, from 8 a.m. until 6 p.m.; and July 24, 2014, from 8 a.m. until 3 p.m. The established times may be adjusted as necessary to accommodate the timely completion of discussion relevant to the assessment process. Such adjustments may result in the meeting being extended from, or completed prior to the time established by this notice.

ADDRESSES: Meeting Address: The SEDAR Procedural Workshop 7 will be held at the Crowne Plaza Hotel, 4831 Tanger Outlet Boulevard, North Charleston, SC 29418; telephone: (843) 744-4422.

SEDAR Address: 4055 Faber Place Drive, Suite 201, North Charleston, SC 29405.

FOR FURTHER INFORMATION CONTACT: Julia Byrd, SEDAR Coordinator; telephone: (843) 571-4366; email: julia.byrd@safmc.net.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR is a three step process including: (1) Data Workshop; (2) Assessment Process utilizing workshops and webinars; and (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting panel opinions regarding the strengths and weaknesses of the stock assessment and input data. Participants for SEDAR Workshops are appointed by the Gulf of Mexico, South Atlantic, and Caribbean Fishery Management Councils, the Atlantic and Gulf States Marine Fisheries Commissions and NOAA Fisheries Southeast Regional Office and Southeast Fisheries Science Center. Participants include: Data collectors and database managers; stock assessment scientists, biologists, and researchers; constituency representatives including fishermen, environmentalists, and non-governmental organizations (NGOs); international experts; and staff of Councils, Commissions, and state and federal agencies.

SEDAR also coordinates procedural workshops which provide an opportunity for focused discussion and deliberation on topics that arise in multiple assessments. They are structured to develop best practices for addressing common issues across assessments. The seventh procedural workshop will provide a review and evaluation of shrimp data from the South Atlantic.

Workshop objectives include creating an inventory of Penaeid shrimp data in the South Atlantic and Gulf of Mexico; reviewing potential shrimp stock assessment approaches and shrimp fishery bycatch estimation methods and their respective data requirements; and providing best practice recommendations for estimating finfish bycatch for the South Atlantic shrimp fishery and for estimating population and management parameters of South Atlantic shrimp resources.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SEDAR office (see ADDRESSES) at least 10 business days prior to the meeting.

Note: The times and sequence specified in this agenda are subject to change.

Authority: 16 U.S.C. 1801 et seq.

Dated: June 11, 2014.
William D. Chappell,
Acting Deputy Director, Office of Sustainable Fisheries, National Marine Fisheries Service.

[FR Doc. 2014-14014 Filed 6-13-14; 8:45 am]

BILLING CODE 3510-22-P